DEPARTMENT OF HEALTH AND HUMAN SERVICES

[Document Identifier: OS-0990-New; 30-Day Notice]

Agency Information Collection Request; 30-Day Public Comment Request

Agency: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 30 days of this notice directly to the OS OMB Desk Officer all comments must be faxed to OMB at 202-395-6974.

Title of the Collection—(New)—OMB No. 0990-NEW—Report of Medical Examination and History.

Abstract: Health professionals applying to the Commissioned Corps of the U.S. Public Health Service (Corps) must be medically qualified prior to appointment. Applicants must have a healthcare provider/physician complete form PHS-7059, Report of Medical Examination, documenting the health status of the applicant. The Corps Medical Evaluations Officer will review the information to ascertain if the applicant is medically qualified presently and in the near future. This is a one-time survey.

Estimated Annualized Burden Table
Forms | Number of respondents | Number of responses per respondent | Average burden hours per response | Total burden hours
PHS-7059 | 4,000 | 1 | 15/60 | 1000
PHS-7060 | 4,000 | 1 | 15/60 | 1000
PHS-7053 | 800 | 1 | 6/60 | 80
PHS-7054 | 1320 | 1 | 6/60 | 132
PHS-7055 | 2800 | 1 | 7/60 | 327
PHS-7056 | 1600 | 1 | 7/60 | 187
PHS-7057 | 600 | 1 | 5/60 | 50
PHS-7061 | 2000 | 1 | 10/60 | 334
Total | 17,120 |  |  | 3,110

Dated: September 18, 2007.
Alice Bettencourt,
Office of the Secretary, Paperwork Reduction Act Reports Clearance Officer.

[FR Doc. E7-19533 Filed 10-2-07; 8:45 am]

BILLING CODE 4150-28-P